DEPARTMENT OF ENERGY

Federal Energy Regulatory Commission

[Docket No. PF08-29-000]

Mississippi Hub, LLC; Notice of Intent To Prepare an Environmental Assessment for the Proposed MS HUB Expansion Project, Request for Comments on Environmental Issues, and Notice of Public Site Visit

October 27, 2008.

The staff of the Federal Energy Regulatory Commission (FERC or Commission) will prepare an environmental assessment (EA) that will discuss the environmental impacts of the proposed MS HUB Expansion Project involving construction and operation of facilities by Mississippi Hub, LLC (MS HUB) in Simpson, Jefferson Davis and Covington Counties, Mississippi. The EA will be used by the Commission in its decision-making process to determine whether or not to authorize the project under section 7 of the Natural Gas Act.

This notice explains the scoping process we ¹ will use to gather environmental input from the public and interested agencies, and summarizes the project review process for the FERC. Your input will help determine which issues need to be evaluated in the EA. Details on how to submit comments during the scoping period are provided in the Public Participation section of this notice. Please note that the scoping period will close on December 3, 2008.

¹ “We,” “us,” and “our” refer to the environmental staff of the FERC's Office of Energy Projects.

This notice is being sent to potentially affected landowners; federal, state, and local government agencies; elected officials; environmental and public interest groups; Native American Tribes; other interested parties; and local libraries and newspapers. State and local government representatives are asked to notify their constituents of this planned project and encourage them to comment on their areas of concern.

If you are a landowner receiving this notice, you may be contacted by a MS HUB company representative about survey permission and/or the acquisition of an easement to construct, operate, and maintain the proposed facilities. The company would seek to negotiate a mutually acceptable agreement. However, if the project is approved by the Commission, that approval conveys with it the right of eminent domain. Therefore, if easement negotiations fail to produce an agreement, the natural gas company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings.

Summary of the Proposed Project

MS HUB proposes to expand the working gas capacity of its currently authorized salt dome natural gas storage facility in Mississippi from 12 billion standard cubic feet (Bcf) to 15 Bcf and construct two new natural gas pipelines in an extension of its South Pipeline Corridor. Specifically, MS HUB seeks authority to construct and operate:

• Two solution-mined salt dome caverns, expanded from a working gas capacity of 6.0 Bcf to 7.5 Bcf each;

• Approximately 14.2 miles of 24-inch-diameter natural gas pipeline, extending from the gas storage facility to an interconnect with the Southeast Supply Header (SESH) pipeline;

• Approximately 22.6 miles of 30-inch-diameter natural gas pipeline, extending from the gas storage facility to an interconnect with a Transcontinental Gas Pipe Line (Transco) pipeline;

• Aboveground tie-in and metering facilities at each interconnect site;

• Associated access roads; and

• An additional 15,800 horsepower (hp) of compression at the gas storage site.

The general location of the project facilities is shown in Appendix 1.²

² The appendices referenced in this notice are not being printed in the Federal Register. Copies of all appendices are available on the Commission's Web site at the “eLibrary” link or from the Commission's Public Reference Room, 888 First Street, NE., Washington, DC 20426, or call (202) 502-8371. For instructions on connecting to eLibrary refer to the last page of this notice. Copies of the appendices were sent to all those receiving this notice in the mail.

Construction of the proposed facilities would require approximately 340 acres of land. Following construction, approximately 136 acres would be maintained as new pipeline right-of-way and aboveground facility sites. The remaining acreage would be restored and allowed to revert to its former use. If approved, MS HUB proposes to begin construction of the project in August 2009.

The EA Process

We are preparing an EA to comply with the National Environmental Policy Act of 1969 (NEPA) which requires the Commission to take into account the environmental impact that could result if it authorizes MS HUB's proposal. NEPA also requires us to discover and address the public's concerns about proposals that require federal authorizations. This process is referred to as “scoping.” The main goal of the scoping process is to focus the analysis in the EA on the important environmental issues.

By this notice, we are requesting public comments on the scope of the issues to be addressed in the EA. All comments received will be considered during preparation of the EA. We are also asking Federal, State, and local agencies with jurisdiction and/or special expertise with respect to environmental issues to formally cooperate with us in the preparation of the EA. Agencies that would like to request cooperating status should follow the instructions for filing comments provided below.

Although no formal application has been filed with the Commission, the FERC staff has initiated its review of the project under its NEPA Pre-filing Process to encourage the early involvement of stakeholders and to identify and resolve issues before an application is filed. The purpose of the Pre-filing Process is to seek public and agency input early in the project planning phase and encourage involvement by interested stakeholders in a manner that allows for the early identification and resolution of environmental issues. We will work with all interested stakeholders to identify and attempt to address issues before MS HUB files its application with the FERC.

The EA will discuss impacts that could occur as a result of the construction and operation of the proposed project, under the general headings of geology and soils; land use; water resources, fisheries, and wetlands; cultural resources; vegetation and wildlife; threatened and endangered species; air quality and noise; safety and reliability; and cumulative impacts. The EA will also evaluate reasonable alternatives to the proposed project, and make recommendations on how to lessen or avoid impacts on affected resources.

Our independent analysis of the issues will be in the EA. Depending on the comments received during the scoping process, the EA may be published and mailed to Federal, State, and local agencies; newspapers; libraries; interested individuals who return the Mail List Retention Form in Appendix 3; and the Commission's official service list for this proceeding. An additional comment period may be allotted for review when the EA is published. We will consider all comments on the EA before we make our recommendations to the Commission.

Currently Identified Environmental Issues

We have already identified several issues that we think deserve attention based on a preliminary review of the proposed facilities and the environmental information provided by MS HUB. This preliminary list of issues may be changed based on your comments and our analysis.

• Federally listed endangered or threatened species may occur in the proposed project area.

• Construction impacts to wetlands located in the proposed project area.

• Construction activities near residences and structures.

Public Participation

You can make a difference by providing us with your specific comments or concerns about the MS HUB Expansion Project. Your comments should focus on the potential environmental effects, reasonable alternatives, and measures to avoid or lessen environmental impacts. The more specific your comments, the more useful they will be. To ensure that your comments are timely and properly recorded, please send in your comments so that they will be received in Washington, DC on or before December 3, 2008.

For your convenience, there are three methods which you can use to submit your written comments to the Commission. In all instances please reference the project docket number (PF08-29-000) with your submission. The three methods are:

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426;

Label one copy of the comments for the attention of Gas Branch 3, PJ-11.3.

The Commission encourages electronic filing of comments and has dedicated eFiling expert staff available to assist you at 202-502-8258 or efiling@ferc.gov.

Once MS HUB formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission. MS HUB currently plans to file its formal application in March 2009.

Public Meetings and Site Visits

As part of the Pre-filing Process review, FERC staff will participate in a public open house sponsored by MS HUB in the project area on November 18, 2008 to explain the environmental review process to interested stakeholders and take comments about the project. MS HUB will mail out a separate invitation regarding this public open house event to all affected landowners and other interested parties. For additional information regarding the open house, please contact MS HUB directly at 1-866-429-5289.

In addition, on November 19, 2008, the FERC staff will conduct a public site visit to view the proposed facility locations and pipeline route. Examination will be by automobile and on foot. Representatives of MS HUB will be accompanying the FERC staff. All interested parties may attend. Those planning to attend must provide their own transportation and should meet at the location and time described below.

MS HUB's open house and the FERC's site visit are designed to provide another opportunity to offer comments on the proposed Project. Interested groups and individuals are encouraged to attend the meetings and to present comments on the environmental issues that they believe should be addressed in the EA. The open house and site visit are scheduled as follows:

Date | Location
MS HUB Open House, Tuesday, November 18th, 7 p.m. to 8:30 p.m. (CST) | M. G. Dyess Inc., 7159 Hwy 35 South, Bassfield, MS 39421 (approximately 1 mile south of the intersection of Hwy 42 and Hwy 35; M. G. Dyess facility on west side of Hwy 35).
FERC Site Visit, Wednesday, November 19th at 9 a.m. to 1 p.m. (CST) | Meet at 9 a.m. at the: Wal-Mart Super Center, 1625 Simpson Hwy #49, Magee, MS 39111.

For additional information, you may contact the Commission's Office of External Affairs at 1-866-208-FERC (3372).

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

We may mail the EA for comment. If you are interested in receiving the EA for review and/or comment, please return the Mail List Retention Form (Appendix 3). In addition, all individuals who provide written comments to the FERC will remain on our environmental mailing list for this project. If you do not return the Mail List Retention Form or provide written comments, you will be taken off the mailing list.

Additional Information

Additional information about the project is available from the Commission's Office of External Affairs, at 1-866-208-FERC or on the FERC Internet Web site (http://www.ferc.gov) using the “eLibrary” link. Click on the eLibrary link, click on “General Search” and enter the docket number excluding the last three digits in the Docket Number field (e.g., PF08-29). Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Fact sheets prepared by the FERC are also available for viewing on the FERC Internet Web site (www.ferc.gov), using the “For Citizens” link. The fact sheet, “Guide to Electronic Information at FERC,” provides instructions on how to stay informed and participate in the Commission's proceedings.

Public meetings or site visits will be posted on the Commission's calendar located at http://www.ferc.gov/EventCalendar/EventsList.aspx along with other related information.

Finally, MS HUB will be updating its Web site at http://www.MississippiHub.com to share news and updates as the environmental review of its project proceeds.

Kimberly D. Bose,
Secretary.

[FR Doc. E8-26081 Filed 10-31-08; 8:45 am]

BILLING CODE 6717-01-P